DEPARTMENT OF TRANSPORTATION

Federal Aviation Administration

Aviation Rulemaking Advisory Committee Meeting on Transport Airplane and Engine Issues

AGENCY: Federal Aviation Administration (FAA), DOT.

ACTION: Notice of public meeting.

SUMMARY: This notice announces a public meeting of the FAA's Aviation Rulemaking Advisory Committee (ARAC) to discuss transport airplane and engine (TAE) issues.

DATES: The meeting is scheduled for Tuesday and Wednesday, June 15-16, 2004, starting at 8:30 a.m. on June 15. Arrange for oral presentations by June 7, 2004.

ADDRESSES: Homewood Suites, Seattle-Tacoma Airport, 6955 Fort Dent Way, Tukwila, WA 98188.

FOR FURTHER INFORMATION CONTACT: Alicia K. Douglas, Office of Rulemaking, ARM-204, FAA, 800 Independence Avenue, SW., Washington, DC 20591, telephone (202) 267-9681, fax (202) 267-5075, or e-mail at alicia.k.douglas@faa.gov.

SUPPLEMENTARY INFORMATION: Pursuant to section 10(a)(2) of the Federal Advisory Committee Act (Pub. L. 92-463; 5 U.S.C. app. III), notice is given of an ARAC meeting to be held June 15-16, 2004, at Homewood Suites, Seattle-Tacoma Airport, in Tukwila, Washington.

The agenda will include:

Tuesday, June 15

• Opening Remarks.

• FAA Report.

• European Aviation Safety Agency/Joint Aviation Authorities Report.

• Transport Canada Report.

• Harmonization Management Team Report.

• Legal Expectations for ARAC Recommendations.

• Human Factors HWG Report and Approval.

• Ice Protection HWG Report.

• Loads and Dynamics HWG Report and Approval.

• Discussion of § 25.1309 Phase 2 Task.

Wednesday, June 16

• General Structures HWG Report and Approval.

• Airworthiness Assurance HWG Report.

• Written or verbal reports, as required, from the following harmonization working groups: Avionics, Engine, Electromagnetic Effects, Flight Test, Seat Test, Flight Control, Flight Guidance, System Design and Analysis, Electrical Systems, Design for Security, Powerplant Installation, and Mechanical Systems.

• Review of Action Items and 2004 Meeting Schedule.

Three working groups will be seeking approval of reports/documents:

1. The Human Factors Working Group on flight deck equipment and systems for use by flight crew;

2. The Loads and Dynamics Working Group on fire protection of flight controls, engine mounts, and other flight structure; and

3. The General Structures Working Group on damage tolerance and fatigue evaluation of structure, and pressurized compartment loads—high altitude flight.

Attendance is open to the public, but will be limited to the availability of meeting room space and telephone lines. Persons participating by telephone, must contact the person listed in the FOR FURTHER INFORMATION CONTACT section after June 7 for the call-in number and pass code. Details of the meeting also available on the ARAC calendar at http://www.faa.gov/avr/arm/araccal/htm. To insure that sufficient telephone lines are available, please notify the person listed in the FOR FURTHER INFORMATION CONTACT section of your intent by June 7, 2004. Anyone participating by telephone will be responsible for paying long-distance charges.

The public must make arrangements by June 7, 2004, to present oral statements at the meeting. Written statements may be presented to the committee at any time by providing 25 copies to the person listed in the FOR FURTHER INFORMATION CONTACT section or by providing copies at the meeting. Copies of the documents to be presented to ARAC for decision or as recommendations to the FAA may be made available by contacting the person listed in the FOR FURTHER INFORMATION CONTACT section.

If you are in need of assistance or require a reasonable accommodation for the meeting or meeting documents, please contact the person listed in the FOR FURTHER INFORMATION CONTACT section. Sign and oral interpretation, as well as a listening device, can be made available if requested 10 calendar days before the meeting.

Issued in Washington, DC on June 1, 2004.
Tony F. Fazio,
Director, Office of Rulemaking.

[FR Doc. 04-12826 Filed 6-4-04; 8:45 am]

BILLING CODE 4910-13-P